NATIONAL CREDIT UNION ADMINISTRATION

Sunshine Act; Notice of Agency Meeting

TIME AND DATE: 10 a.m., Friday, January 6, 2012.

Place: Board Room, 7th Floor, Room 7047, 1775 Duke Street, Alexandria, VA 22314-3428.

STATUS: Closed.

Matters To Be Considered:

1. Consideration of Supervisory Activities. Closed pursuant to some or all of the following: exemptions (5), (7), (8), (9)(i)(B), and 9(ii).

FOR FURTHER INFORMATION CONTACT: Mary Rupp, Secretary of the Board, Telephone: (703) 518-6304.

Linda Dent,
Acting Board Secretary.

[FR Doc. 2011-33822 Filed 12-30-11; 4:15 pm]

BILLING CODE 7535-01-P